DEPARTMENT OF TRANSPORTATION

Surface Transportation Board

[STB Ex Parte No. 552 (Sub-No. 11)]

Railroad Revenue Adequacy—2006 Determination

AGENCY: Surface Transportation Board.

ACTION: Notice of decision.

SUMMARY: On May 6, 2008, the Board served a decision announcing the 2006 revenue adequacy determinations for the Nation's Class I railroads. Three carriers, the BNSF Railway Company, the Norfolk Southern Railway Company and the Soo Line Railroad Company, are found to be revenue adequate.

EFFECTIVE DATE: This decision is effective on May 6, 2008.

FOR FURTHER INFORMATION CONTACT: Paul Aguiar, (202) 245-0323. (Federal Information Relay Service (FIRS) for the hearing impaired: 1-800-877-8339).

SUPPLEMENTARY INFORMATION: The Board is required to make an annual determination of railroad revenue adequacy. A railroad is considered revenue adequate under 49 U.S.C. 10704(a) if it achieves a rate of return on net investment (ROI) equal to at least the current cost of capital for the railroad industry. For 2006, the railroad industry's cost of capital was determined to be 9.94%. See Railroad Cost of Capital—2006, STB Ex Parte No. 558 (Sub-No. 10) (STB served Apr. 15, 2008). This revenue adequacy figure was compared with ROI data from each Class I railroad, and three carriers were found to be revenue adequate for 2006.

The Board's decision in this proceeding is posted on the Board's Web site at www.stb.dot.gov under “E-Library,” and “Decisions & Notices.”

Environmental and Energy Considerations

This action will not significantly affect either the quality of the human environment or the conservation of energy resources.

Regulatory Flexibility Analysis

Pursuant to 5 U.S.C. 605(b), we conclude that our action in this proceeding will not have a significant economic impact on a substantial number of small entities. The purpose and effect of the action is merely to update the annual railroad industry revenue adequacy finding. No new reporting or other regulatory requirements are imposed, directly or indirectly, on small entities.

Decided: May 1, 2008.
By the Board, Chairman Nottingham, Vice Chairman Mulvey, and Commissioner Buttrey.
Anne K. Quinlan,
Acting Secretary.

[FR Doc. E8-10369 Filed 5-8-08; 8:45 am]

BILLING CODE 4915-01-P